SMALL BUSINESS ADMINISTRATION

[Disaster Declaration #20720 and #20721; NORTH CAROLINA Disaster Number NC-20009]

Presidential Declaration Amendment of a Major Disaster for Public Assistance Only for the State of North Carolina

AGENCY: U.S. Small Business Administration.

ACTION: Amendment 1.

SUMMARY: This is an amendment of the Presidential declaration of a major disaster for Public Assistance Only for the State of North Carolina (FEMA-4827-DR), dated 10/02/2024.

Incident: Tropical Storm Helene.

Incident Period: 09/25/2024 and continuing.

DATES: Issued on 10/15/2024.

Physical Loan Application Deadline Date: 12/02/2024.

Economic Injury (EIDL) Loan Application Deadline Date: 07/02/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of North Carolina, dated 10/02/2024, is hereby amended to include the following areas as adversely affected by the disaster.

Primary Counties: Swain.

All other information in the original declaration remains unchanged.

(Catalog of Federal Domestic Assistance Number 59008)

Rafaela Monchek
Deputy Associate Administrator, Office of Disaster Recovery & Resilience.

[FR Doc. 2024-24397 Filed 10-21-24; 8:45 am]

BILLING CODE 8026-09-P